DEPARTMENT OF TRANSPORTATION

Coast Guard

33 CFR Part 117

[CGD01-01-030]

Drawbridge Operation Regulations: Harlem River, NY

AGENCY: Coast Guard, DOT.

ACTION: Notice of temporary deviation from regulations.

SUMMARY: The Commander, First Coast Guard District, has issued a temporary deviation from the drawbridge operation regulations governing the operation of the 207 Street (University Heights) Bridge, at mile 6.0, across the Harlem River at New York City, New York. This deviation authorizes the bridge owner to require a twenty-four hour notice for bridge openings from March 2, 2001 through April 15, 2001. This deviation is necessary in order to facilitate emergency repairs at the bridge.

DATES: This deviation is effective from March 2, 2001 through April 15, 2001.

FOR FURTHER INFORMATION CONTACT: Joe Arca, Project Officer, First Coast Guard District, at (212) 668-7165.

SUPPLEMENTARY INFORMATION: The 207 Street (University Heights) Bridge, at mile 6.0, across the Harlem River, has a vertical clearance of 26 feet at mean high water, and 30 feet at mean low water in the closed position. The existing drawbridge operating regulations are listed at 33 CFR 117.789(c).

The bridge owner, the New York City Department of Transportation (NYCDOT), requested a temporary deviation from the drawbridge operating regulations to facilitate emergency electrical repairs at the bridge. This deviation from the operating regulations allows the bridge owner to require a twenty-four hour notice for bridge openings from March 2, 2001 through April 15, 2001.

Thirty days notice to the Coast Guard for approval of this emergency repair was not given by the bridge owner and was not required because this work involves vital, unscheduled maintenance that must be performed without undue delay.

Vessels that can pass under the bridge without an opening may do so at all times during the closed period.

In accordance with 33 CFR 117.35(c), this work will be performed with all due speed in order to return the bridge to normal operation as soon as possible. This deviation from the operating regulations is authorized under 33 CFR 117.35.

Dated: March 15, 2001.
G.N. Naccara,
Rear Admiral, U.S. Coast Guard, Commander, First Coast Guard District.

[FR Doc. 01-7511 Filed 3-26-01; 8:45 am]

BILLING CODE 4910-15-P